DEPARTMENT OF COMMERCE

International Trade Administration

[A-580-897]

Large Diameter Welded Pipe From the Republic of Korea: Final Results of Antidumping Duty Administrative Review; 2020-2021

AGENCY: Enforcement and Compliance, International Trade Administration, Department of Commerce.

SUMMARY: The U.S. Department of Commerce (Commerce) determines that Hyundai RB Co., Ltd. (Hyundai RB) made sales of large diameter welded pipe (welded pipe) from the Republic of Korea (Korea) at prices below normal value (NV), and that Hyundai Steel Company (Hyundai Steel) did not make sales of the subject merchandise at prices below NV during the period of review (POR), May 1, 2020, through April 30, 2021. Commerce further determines that sales by the non-individually examined companies were made at prices below NV.

DATES: Applicable November 16, 2022.

FOR FURTHER INFORMATION CONTACT: Katherine Johnson or Samantha Kinney, AD/CVD Operations, Office VIII, Enforcement and Compliance, International Trade Administration, U.S. Department of Commerce, 1401 Constitution Avenue NW, Washington, DC 20230; telephone: (202) 482-4929 or (202) 482-2285, respectively.

SUPPLEMENTARY INFORMATION:

Background

On June 3, 2022, Commerce published the preliminary results of this administrative review.¹ The review covers 20 producers or exporters of subject merchandise. We invited interested parties to comment on the Preliminary Results. A summary of the events that occurred since Commerce published the Preliminary Results, as well as a full discussion of the issues raised by parties for these final results, are included in the Issues and Decision Memorandum.² Commerce conducted this review in accordance with section 751(a) of the Tariff Act of 1930, as amended (the Act).

¹ See Large Diameter Welded Pipe from the Republic of Korea: Preliminary Results of Antidumping Duty Administrative Review and Partial Rescission; 2020-2021, 87 FR 33723 (June 3, 2022) (Preliminary Results), and accompanying Preliminary Decision Memorandum.

² See Memorandum, “Issues and Decision Memorandum for the Final Results in the 2020-2021 Antidumping Duty Administrative Review: Large Diameter Welded Pipe from the Republic of Korea,” dated concurrently with, and hereby adopted by, this notice (Issues and Decision Memorandum).

Scope of the Order ³

³ See Large Diameter Welded Pipe from the Republic of Korea: Amended Final Affirmative Antidumping Determinations and Antidumping Duty Orders, 84 FR 18767 (May 2, 2019) (Order); see also Large Diameter Welded Pipe from the Republic of Korea: Final Results of Antidumping Duty and Countervailing Duty Changed Circumstances Reviews, 85 FR 51679 (August 21, 2020).

The merchandise covered by the Order is welded carbon and alloy steel pipe (other than stainless steel pipe), more than 406.4 mm (16 inches) in nominal outside diameter (large diameter welded pipe), regardless of wall thickness, length, surface finish, grade, end finish, or stenciling. Imports of the product are currently classifiable in the Harmonized Tariff Schedule of the United States (HTSUS) under subheadings 7305.11.1030, 7305.11.1060, 7305.11.5000, 7305.12.1030, 7305.12.1060, 7305.12.5000, 7305.19.1030, 7305.19.1060, 7305.19.5000, 7305.31.4000, 7305.31.6090, 7305.39.1000 and 7305.39.5000. While the HTSUS subheadings are provided for convenience and customs purposes, the written description of the scope of this order is dispositive. For a complete description of the scope of the Order, see the Issues and Decision Memorandum.

Analysis of Comments Received

All issues raised in the parties' case and rebuttal briefs are addressed in the Issues and Decision Memorandum and are listed in Appendix I to this notice.⁴ The Issues and Decision Memorandum is a public document and is on-file electronically via Enforcement and Compliance's Antidumping and Countervailing Duty Centralized Electronic Service System (ACCESS). ACCESS is available to registered users at https://access.trade.gov. In addition, a complete version of the Issues and Decision Memorandum can be accessed directly at http://access.trade.gov/public/FRNoticesListLayout.aspx.

⁴ See Appendix I.

Changes Since the Preliminary Results

Based on the comments received from interested parties and record information, we made no changes to our preliminary weighted-average dumping margin calculations for Hyundai RB and Hyundai Steel.

Rate for Non-Examined Respondents

The statute and Commerce's regulations do not address the establishment of a weighted-average dumping margin to be determined for companies not selected for individual examination when Commerce limits its examination in an administrative review pursuant to section 777A(c)(2) of the Act. Generally, Commerce looks to section 735(c)(5) of the Act, which provides instructions for calculating the all-others rate in an investigation, for guidance when determining the weighted-average dumping margin for companies which were not selected for individual examination in an administrative review. Under section 735(c)(5)(A) of the Act, the all-others rate is normally an amount equal to the weighted average of the estimated weighted average dumping margins established for exporters and producers individually investigated, excluding any zero and de minimis margins, and any margins determined entirely on the basis of facts available. For these final results of review, we calculated a weighted-average dumping margin for Hyundai RB that is not zero, de minimis, or based entirely on facts available. Therefore, consistent with our practice, we have assigned the companies not selected for individual examination the weighted-average dumping margin calculated for Hyundai RB.

Final Results of Review

As a result of this review, we determine the following weighted-average dumping margins exist for the POR:

Exporter or producer | Weighted- average dumping margin (percent)
Hyundai RB Co., Ltd | 2.67
Hyundai Steel Company | 0.00
Non-Examined Companies ⁵ | 2.67

Disclosure

⁵ See Appendix II.

Normally, Commerce discloses to the parties in a proceeding the calculations that it performed in connection with the final results of review in accordance with 19 CFR 351.224(b). However, because we made no changes to our preliminary weighted-average dumping margin calculations for Hyundai RB and Hyundai Steel, there are no revised margin calculations to disclose.

Assessment Rates

Commerce has determined, and U.S. Customs and Border Protection (CBP) shall assess, antidumping duties on all appropriate entries in this review, in accordance with section 751(a)(2)(C) of the Act and 19 CFR 351.212(b). Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Pursuant to 19 CFR 351.212(b)(1), where the respondent reported the entered value of its U.S. sales, we calculated importer-specific ad valorem duty assessment rates based on the ratio of the total amount of dumping calculated for the examined sales to the total entered value of the sales for which entered value was reported. Where the respondent did not report entered value, we calculated importer-specific per-unit duty assessment rates based on the ratio of the total amount of antidumping duties calculated for the examined sales to the total quantity of those sales. To determine whether an importer-specific per-unit duty assessment rate is de minimis, we calculated an estimated entered value.

Where an importer-specific assessment rate is de minimis (i.e., less than 0.5 percent), the entries by that importer will be liquidated without regard to antidumping duties. Because the weighted-average dumping margin for Hyundai Steel is zero percent, we intend to instruct CBP to liquidate the appropriate entries without regard to antidumping duties.⁶

⁶ See Antidumping Proceedings: Calculation of the Weighted-Average Dumping Margin and Assessment Rate in Certain Antidumping Proceedings; Final Modification, 77 FR 8101, 8102 (February 14, 2012).

Consistent with Commerce's clarification of its assessment practice, for entries of subject merchandise during the POR produced by any of the above-referenced respondents for which they did not know that the merchandise was destined for the United States, we will instruct CBP to liquidate those entries at the all-others rate in the original less-than-fair-value (LTFV) investigation of 7.08 percent ad valorem ⁷ if there is no rate for the intermediate company(ies) involved in the transaction.⁸

⁷ See Order.

⁸ For a full discussion of this practice, see Antidumping and Countervailing Duty Proceedings: Assessment of Antidumping Duties, 68 FR 23954 (May 6, 2003).

Cash Deposit Requirements

The following deposit requirements will be effective for all shipments of the subject merchandise entered, or withdrawn from warehouse, for consumption on or after the publication date of the final results of this administrative review, as provided by section 751(a)(2)(C) of the Act: (1) the cash deposit rate for the companies listed above will be equal to the weighted-average dumping margin established in these final results; (2) for previously investigated or reviewed companies not subject to this review, the cash deposit rate will continue to be the company-specific rate published for the most recently completed segment of this proceeding in which the company participated; (3) if the exporter is not a firm covered in this review, a prior review, or the original LTFV investigation, but the producer is, the cash deposit rate will be the rate established for the most recently completed segment of the proceeding for the producer of the merchandise; and (4) the cash deposit rate for all other producers and exporters will continue to be 7.08 percent ad valorem, the all-others rate established in the LTFV investigation.⁹ These cash deposit requirements, when imposed, shall remain in effect until further notice.

⁹ See Order.

Notification to Importers

This notice also serves as a final reminder to importers of their responsibility under 19 CFR 351.402(f)(2) to file a certificate regarding the reimbursement of antidumping and/or countervailing duties prior to liquidation of the relevant entries during the POR. Failure to comply with this requirement could result in Commerce's presumption that reimbursement of antidumping and/or countervailing duties occurred and the subsequent assessment of double antidumping duties, and/or an increase in the amount of antidumping duties by the amount of the countervailing duties.

Administrative Protective Order

This notice also serves as a reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

We are issuing and publishing this notice in accordance with sections 751(a)(1) and 777(i)(1) of the Act, and 19 CFR 351.221(b)(5).

Dated: November 9, 2022.
Lisa W. Wang,
Assistant Secretary for Enforcement and Compliance.

Appendix I

List of Topics Discussed in the Issues and Decision Memorandum

I. Summary

II. Background

III. Scope of the Order

IV. Discussion of the Issues

Hyundai RB Co., Ltd. (Hyundai RB)

Comment 1: Smoothing of Costs

Comment 2: Scrap Adjustment

Comment 3: Raw Material Discount

Comment 4: Pre-POR Direct Cost Adjustment

Comment 5: General and Administrative (G&A) Expense

Comment 6: Interest Expense Ratio Adjustment

Hyundai Steel Company (Hyundai Steel)

Comment 7: Interest Expense Calculation

Comment 8: Short-Term Interest Income Offset

Comment 9: G&A Expenses

SeAH Steel Corporation (SeAH)

Comment 10: Voluntary Respondent Status for SeAH Steel Corporation

V. Recommendation

Appendix II

Companies Not Selected for Individual Examination

1. AJU Besteel Co., Ltd.

2. Chang Won Bending Co., Ltd.

3. Daiduck Piping Co., Ltd.

4. Dong Yang Steel Pipe Co., Ltd.

5. Dongbu Incheon Steel Co., Ltd.

6. EEW KHPC Co., Ltd.

7. EEW Korea Co., Ltd.

8. Histeel Co., Ltd.

9. Husteel Co., Ltd.

10. Kiduck Industries Co., Ltd.

11. Kum Kang Kind. Co., Ltd.

12. Kumsoo Connecting Co., Ltd.

13. Nexteel Co., Ltd.

14. SeAH Steel Corporation

15. Seonghwa Industrial Co., Ltd.

16. SIN-E B&P Co., Ltd.

17. Steel Flower Co., Ltd.

18. WELTECH Co., Ltd.

[FR Doc. 2022-24939 Filed 11-15-22; 8:45 am]

BILLING CODE 3510-DS-P